FEDERAL ELECTION COMMISSION

Sunshine Act Meetings

FEDERAL REGISTER CITATION OF PREVIOUS ANNOUNCEMENT: 82 FR 42682.

PREVIOUSLY ANNOUNCED TIME AND DATE OF THE MEETING: Thursday, September 14, 2017 AT 11:15 a.m.

CHANGES IN THE MEETING: The meeting took place at 1:15 p.m.

The Following Item Was Also Discussed: REG 2011-02 (Internet Communication Disclaimers).

CONTACT PERSON FOR MORE INFORMATION: Judith Ingram, Press Officer, Telephone: (202) 694-1220.

Dayna C. Brown,
Secretary and Clerk of the Commission.

[FR Doc. 2017-20098 Filed 9-18-17; 11:15 am]

BILLING CODE 6715-01-P